DEPARTMENT OF JUSTICE

Notice of Lodging of Consent Decree Under the Oil Pollution Act

Notice is hereby given that on December 21, 2011, a proposed Consent Decree in United States v. Marathon Pipe Line Company, LLC, Civil Action No. 3:11-CV-01123, was lodged with the United States District Court for Southern District of Illinois.

In this action, the United States sought to recover from Marathon natural resource damages under the Oil Pollution Act, 33 U.S.C. 2710, et seq., which arose from an alleged August 2008 discharge, from a subsurface pipeline owned by Marathon, of 5,000 barrels of crude oil into a forested wetland within the watershed of a tributary to the Wabash River and Ohio River. Under the proposed Decree, Marathon will: (1) Pay a total of $90,629 to the United States in reimbursement of the costs incurred in assessing the natural resource damages; (2) restore approximately 7.1 acres of forested wetland; (3) restore an additional 14.2 acres of adjacent agricultural fields and convert the fields into hardwood forest; and (4) install bat houses and wood duck boxes to help mitigate damage to the natural habitats of affected species.

The Department of Justice will receive for a period of thirty (30) days from the date of this publication comment relating to the Consent Decree. Comments should be addressed to the Assistant Attorney General, Environment and Natural Resources Division, and either emailed to pubcomment-ees.enrd@usdoj.gov or mailed to P.O. Box 7611, U.S. Department of Justice, Washington, DC 20044-7611, and should refer to United States v. Marathon Pipe Line Company, LLC, No. 3:11-CV-01123 (S.D. Ill.), D.J. Ref. No. 90-5-1-1-10296.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Environment and Natural Resources Division, Environmental Enforcement Section, fax no. (202) 514-0097, phone confirmation number (202) 514-1547, email EESCDCopy.ENRD@usdoj.gov. In requesting a copy from the Consent Decree Library, please enclose a check in the amount of $16.50 for a copy of the complete Consent Decree (25 cents per page reproduction cost), payable to the U.S. Treasury or, if by email or fax, forward a check in that amount to the Consent Decree Library at the stated address.

Maureen Katz,
Assistant Section Chief, Environmental Enforcement Section, Environment and Natural Resources Division.

[FR Doc. 2012-142 Filed 1-6-12; 8:45 am]

BILLING CODE 4410-15-P